DEPARTMENT OF THE INTERIOR

National Park Service

[NPS-WASO-NRNHL-0112-9281; 2200-3200-665]

National Register of Historic Places; Notification of Pending Nominations and Related Actions

Nominations for the following properties being considered for listing or related actions in the National Register were received by the National Park Service before January 7, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, (202) 371-6447. Written or faxed comments should be submitted by February 14, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Howard County

Old Corinth Cemetery, AR 26, Center Point, 12000022

Union County

Bethel Methodist Church, SE. corner of AR 57 & Bethel Rd., Mount Holly, 12000023

Washington County

Fayetteville Veterans Administration Hospital, (United States Second Generation Veterans Hospitals) 1100 N. College Ave., Fayetteville, 12000024

ILLINOIS

Cook County

Lathrop, Julia C., Homes, Bounded by Clyburn, & N. Damen Aves., N. Leavitt St., & Chicago R., Chicago, 12000025 De Kalb County North Grove School, 26475 Brickville Rd., Sycamore, 12000026

Edwards County

St. Johns Episcopal Church, 20 E. Cherry St., Albion, 12000027

Jersey County

Fisher—Chapman Farmstead, 24818 Homeridge Dr., Jerseyville, 12000028

INDIANA

Marion County

Indianapolis Veterans Administration Hospital, (United States Second Generation Veterans Hospitals) 2601 Cold Springs Rd., Indianapolis, 12000029

IOWA

Buena Vista County

Sioux Theatre, (Movie Theaters of Iowa MPS) 218 Main St., Sioux Rapids, 12000030

OHIO

Cuyahoga County

Jones Home Subdivisions Historic District, Woodbridge, Marvin, Daisy, & Library Aves., & W. 25th St., Cleveland, 12000031

Shaker Farm Historic District,

Roughly bounded by Scarborough, Colchester, St. James, Roxboro, N. Park, Fairmount, Idlewood. E. Monmouth & Lee Sts., Cleveland Heights, 12000032

Geauga County

South Newbury Union Chapel, 15829 Ravenna Rd., Newbury, 12000033

SOUTH DAKOTA

Brule County

Bradshaw, O.G., Elevator, 220 W. Railroad St., Kimball, 12000034

Charles Mix County

Engel Hotel, 202 Main St., Lake Andes, 12000035

Hamlin County

Garfield Church and Cemetery, NW. corner of SD 28 & 443rd Ave., Bryant, 12000036

Minnehaha County

Odd Fellows Home of Dell Rapids, 100 W. 10th St., Dell Rapids, 12000037

[FR Doc. 2012-1854 Filed 1-27-12; 8:45 am]

BILLING CODE 4312-51-P